DEPARTMENT OF ENERGY

Federal Energy Regulatory Commission

[Project No. 516]

South Carolina Electric and Gas Company; Notice of Scoping Meetings and Intent To Prepare an Environmental Assessment

Issued April 16, 2002.

The Federal Energy Regulatory Commission (Commission) is requiring the seismic remediation of the Saluda Dam, part of the Saluda Hydroelectric Project (FERC No. 516). The Saluda Dam impounds the 48,000-acre Lake Murray and is located in Richland, Lexington, Newberry, and Saluda counties, South Carolina. Remediation of the dam is being required to ensure public safety, pursuant to Paragraph 12.4 (b) (2) (iv) of the Commission's Regulations, and will necessitate a temporary partial drawdown of Lake Murray. The drawdown will lower the reservoir approximately 15 feet below its normal operating level for approximately 20 months.

The Commission intends to prepare an Environmental Assessment (EA) for the Saluda Dam Remediation Project, which will be used by the Commission to identify impacts and to identify measures that may help mitigate the impacts caused by the project. To support and assist our environmental review, we are beginning the public scoping process to ensure that all pertinent issues are identified and analyzed, and that the environmental document is thorough and balanced.

We invite the participation of governmental agencies, non-governmental organizations, and the general public in the scoping process, and will be preparing Scoping Document 1 (SD1) to provide information on the proposed project and to solicit written and verbal comments and suggestions on our preliminary list of issues and alternatives to be addressed in the EA. The SD1 will be distributed to parties on the mailing list for this project, as well as other individuals and organizations that we have identified as having an interest in this project. The SD1 will be available from our Public Reference Room at (202) 208-1371. It will also be accessible online at http://www.ferc.gov using the “RIMS” link—select “Docket #” and follow the instructions (call (202-208-2222 for assistance).

We will hold two scoping meetings on May 17, 2002, to receive input on the appropriate scope of the environmental analysis. Both meetings will be held at the Embassy Suites Hotel, 200 Stoneridge Drive, Columbia, SC. A resource agency meeting will be held from 9 a.m to 12 noon. The public meeting will be held 7 p.m. until 9 p.m. The public and agencies may attend either or both meetings. The agency scoping meeting will focus on resource agency concerns, while the public scoping meeting is primarily for public input.

At the scoping meetings, the staff will: (1) summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis. Staff will also be soliciting input on potential measures that could be implemented to minimize the impacts of the remediation project, including the drawdown.

The meetings will be recorded by a stenographer and will become part of the formal record for this project.

Individuals, organizations, and agencies with environmental expertise and concerns are encouraged to attend the meetings and assist the staff in defining and clarifying the issues to be addressed in the EA.

Interested parties may also file written scoping comments. All such comments (original and eight copies) should be filed with: Magalie R. Salas, Secretary, Federal Energy Regulatory Commission, 888 First Street, NE., Washington, DC 20426. The deadline for filing scoping comments is June 21, 2002.

Scoping comments may be filed electronically via the Internet in lieu of paper. See 18 CFR 385.2001(a)(1)(iii) and the instructions on the Commission's web site (http://www.ferc.gov) under the “e-Filing” link.

Please direct any questions about the scoping process to John M. Mudre at (202) 219-1208.

Linwood A. Watson, Jr.,
Deputy Secretary.

[FR Doc. 02-9767 Filed 4-19-02; 8:45 am]

BILLING CODE 6717-01-P